DEPARTMENT OF DEFENSE

Defense Acquisition Regulations System

[OMB Control Number 0704-0214]

Information Collection Requirement; Defense Federal Acquisition Regulation Supplement; Special Contracting Methods

AGENCY: Defense Acquisition Regulations System, Department of Defense (DoD).

ACTION: Notice and request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through November 30, 2008. DoD proposes that OMB extend its approval for use for three additional years.

DATES: DoD will consider all comments received by October 17, 2008.

ADDRESSES: You may submit comments, identified by OMB Control Number 0704-0214, using any of the following methods:

• Federal eRulemaking Portal: http://www.regulations.gov. Follow the instructions for submitting comments.

• E-mail: dfars@osd.mil. Include OMB Control Number 0704-0214 in the subject line of the message.

• Fax: 703-602-7887.

• Mail: Defense Acquisition Regulations System, Attn: Mr. Michael Benavides, OUSD (AT&L) DPAP (DARS), IMD 3D139, 3062 Defense Pentagon, Washington, DC 20301-3062.

• Hand Delivery/Courier: Defense Acquisition Regulations System, Crystal Square 4, Suite 200A, 241 18th Street, Arlington, VA 22202-3402.

Comments received generally will be posted without change to http://www.regulations.gov, including any personal information provided.

FOR FURTHER INFORMATION CONTACT: Mr. Michael Benavides, 703-602-1302. The information collection requirements addressed in this notice are available on the World Wide Web at: http://www.acq.osd.mil/dpap/dars/dfarspgi/current/index.html. Paper copies are available from Mr. Michael Benavides, OUSD (AT&L) DPAP (DARS), IMD 3D139, 3062 Defense Pentagon, Washington, DC 20301-3062.

SUPPLEMENTARY INFORMATION: Title and OMB Number: Defense Federal Acquisition Regulation Supplement (DFARS) Part 217, Special Contracting Methods, and related provisions and clauses at DFARS 252.217; OMB Control Number 0704-0214.

Needs and Uses: Contracting officers need the information required by DFARS Part 217 and the related provisions and clauses to determine the economic advantage of exchange (trade-in) of personal property; to permit definitization of contract actions; to determine the reasonableness of proposed prices; to determine that a contractor is adequately insured; to determine the appropriate course of action in the event of loss or damage to a vessel; to provide for competition in future acquisitions; and to determine the need for “over and above” work.

Affected Public: Businesses or other for-profit and not-for-profit institutions.

Annual Burden Hours: 1,113,124.

Number of Respondents: 54,181.

Responses Per Respondent: Approximately 2.

Annual Responses: 108,714.

Average Burden per Response: 10.24 hours.

Frequency: On occasion.

Summary of Information Collection

a. Paragraph (a) of DFARS 217.7004 requires that solicitations contemplating exchange (trade-in) of personal property, and application of the exchange allowance to the acquisition of similar property, must include a request for offerors to state prices for the new items being acquired both with and without any exchange allowance.

b. Paragraph (b) of DFARS 217.7404-3 requires the contractor to submit a qualifying proposal in accordance with the definitization schedule for an undefinitized contract action, unless an exception in DFARS 217.7404-5 applies. A “qualifying proposal” is defined in paragraph (c) of DFARS 217.7401 as a proposal containing sufficient information for DoD to do complete and meaningful analyses and audits of the information in the proposal and any other information that the contracting officer has determined that DoD needs to review in connection with the contract.

c. Paragraph (d) of DFARS 217.7505 permits contracting officers to include, in sole source solicitations for replenishment parts, a provision requiring an offeror to supply, with its proposal, price and quantity data on any Government orders for the replenishment part issued within the most recent 12 months.

d. Paragraph (d)(3) of the clause at DFARS 252.217-7012 requires the contractor to show evidence of insurance under a master agreement for vessel repair and alteration. Paragraphs (f) and (g) of the clause require the contractor to notify the contracting officer of any property loss or damage for which the Government is liable, and to submit to the contracting officer a request for reimbursement of the cost of replacement or repair with supporting documentation.

e. Paragraph (b) of the provision at DFARS 252.217-7026 requires the apparently successful offeror to identify its sources of supply. This information is needed to comply with the requirements of 10 U.S.C. 2384.

f. Paragraphs (c) and (e) of the clause at DFARS 252.217-7028 require the contractor to submit to the contracting officer a work request and a proposal for “over and above” work.

Michele P. Peterson,
Editor, Defense Acquisition Regulations System.

[FR Doc. E8-19096 Filed 8-15-08; 8:45 am]

BILLING CODE 5001-08-P